DEPARTMENT OF TRANSPORTATION

Pipeline and Hazardous Materials Safety Administration

[Docket No. PHMSA-2018-0025 (Notice No. 2020-09)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on an Office of Management and Budget (OMB) control number pertaining to hazardous materials transportation. This notice follows the publication of a PHMSA final rule titled “Hazardous Materials: Liquefied Natural Gas by Rail” [HM-264, 85 FR 44994] authorizing the transportation of liquefied natural gas by rail. Following publication of this notice, PHMSA intends to request a renewal with change of currently approved OMB control number 2137-0612, “Hazardous Materials Security Plans.”

DATES: Interested persons are invited to submit comments on or before December 16, 2020.

ADDRESSES: Written comments and recommendations for the proposed information collection should be sent within 30 days of publication of this notice to www.reginfo.gov/public/do/PRAMain. Find this particular information collection by selecting “Currently under 30-day Review—Open for Public Comments” or by using the search function.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

FOR FURTHER INFORMATION CONTACT: Steven Andrews or Shelby Geller, Standards and Rulemaking Division, (202) 366-8553, Pipeline and Hazardous Materials Safety Administration, U.S. Department of Transportation, 1200 New Jersey Avenue SE, Washington, DC 20590-0001.

SUPPLEMENTARY INFORMATION: On July 24, 2020, PHMSA, in coordination with the Federal Railroad Administration (FRA), published a final rule titled “Hazardous Materials: Liquefied Natural Gas by Rail” [HM-264, 85 FR 44994], to allow for the bulk transport of “Methane, refrigerated liquid,” commonly known as liquefied natural gas (LNG), in rail tank cars. In this final rule, PHMSA amended the Hazardous Materials Regulations (HMR; 49 Code of Federal Regulations (CFR) parts 171-180) to require any rail carrier transporting a tank car quantity of UN1972 (Methane, refrigerated liquid (cryogenic liquid) or Natural gas, refrigerated liquid (cryogenic liquid)) to comply with the additional safety and security planning requirements for transportation by rail. PHMSA currently accounts for the burden associated with safety and security planning requirements in Office of Management and Budget (OMB) Control Number 2137-0612, “Hazardous Materials Security Plans.”

OMB regulations require PHMSA to provide interested members of the public and affected agencies an opportunity to comment on information collection and recordkeeping requests. 5 CFR 1320.8d. Under the Paperwork Reduction Act of 1995 (Pub. L. 96-511), no person is required to respond to an information collection unless it has been approved by OMB and displays a valid OMB control number. As the HM-264 final rule contains revisions that were not proposed in the notice of proposed rulemaking (NPRM) [October 24, 2019; 84 FR 56964], PHMSA published a 60-day notice [85 FR 46220] and is subsequently publishing this 30-day notice to provide an opportunity for public comment on the estimated increase in burden. The estimated increase in burden hours is reflected in “Section VI.G. Paperwork Reduction Act” of the preamble to the final rule, with a minor adjustment due to a rounding error.

As mentioned, on July 31, 2020, PHMSA published a 60-day notice to request comments on the revision to OMB Control Number 2137-0612. PHMSA received four sets of comments to the 60-day notice. None of these comments were specifically related to the change in the information collection burden. Therefore, PHMSA is revising OMB Control Number 2137-0612 as follows:

| Increase in total number of railroads | Increase in total number of routes | Burden hours per route | Increase in total burden hours | Salary cost per hour | Increase in total salary cost
Class I Railroads | 0 | 2 | 80 | 160 | $60.83 | $9,733
Class II Railroads | 0 | 1 | 80 | 80 | 60.83 | 4,866
Class III Railroads | 0 | 1 | 40 | 40 | 60.83 | 2,433
Total Increase in Primary Route Analysis |  | 4 |  | 280 |  | 17,032

| Increase in total number of railroads | Increase in total number of routes | Burden hours per route | Increase in total burden hours | Salary cost per hour | Increase in total salary cost
Class I Railroads | 0 | 2 | 120 | 240 | $60.83 | $14,599
Class II Railroads | 0 | 1 | 120 | 120 | 60.83 | 7,300
Class III Railroads | 0 | 1 | 40 | 40 | 60.83 | 2,433
Total Increase in Alternate Route Analysis |  | 4 |  | 400 |  | 24,332

Annual Increase in Number of Respondents: 0.

Annual Increase in Number of Responses: 8.

Annual Increase in Burden Hours: 680.

Annual Increase in Salary Costs: $41,364.

Issued in Washington, DC on November 9, 2020, under authority delegated in 49 CFR 1.97.
William A. Quade,
Deputy Associate Administrator of Hazardous Materials Safety, Pipeline and Hazardous Materials Safety Administration.

[FR Doc. 2020-25168 Filed 11-13-20; 8:45 am]

BILLING CODE 4910-60-P